DEPARTMENT OF COMMERCE

National Oceanic and Atmospheric Administration

[I.D.022601C]

Endangered and Threatened Species; Take of Anadromous Fish

AGENCY: National Marine Fisheries Service (NMFS), National Oceanic and Atmospheric Administration (NOAA), Commerce.

ACTION: Notice of availability and request for comment.

SUMMARY: The Washington Department of Fish and Wildlife and the Puget Sound Treaty Tribes submitted a jointly developed Resource Management Plan (RMP) pursuant to the protective regulations promulgated for Puget Sound chinook salmon under section 4(d) of the Endangered Species Act (ESA). The RMP specifies the future management of commercial, recreational and tribal salmon fisheries potentially affecting listed Puget Sound chinook salmon. This document serves to notify the public of the availability for comment of the proposed evaluation of the Secretary of Commerce (Secretary) as to how the RMP addresses the criteria in the ESA.

DATES: Written comments on the Secretary’s proposed evaluation must be received at the appropriate address or fax number (see ADDRESSES) no later than 5 p.m. Pacific Standard Time on March 26, 2001.

ADDRESSES: Written comments and requests for copies of the evaluation should be addressed to Susan Bishop, Sustainable Fisheries Division, National Marine Fisheries Service, 7600 Sand Point Way NE, Seattle, Washington 98115-0070. Comments may also be sent via fax to 206/526-6736. The document is also available on the Internet at http://www.nwr.noaa.gov/, Sustainable Fisheries Division site. Comments will not be accepted if submitted via e-mail or the internet.

FOR FURTHER INFORMATION CONTACT: Susan Bishop at phone number: 206/526-4587, or e-mail: susan.bishop@noaa.gov regarding the RMP.

SUPPLEMENTARY INFORMATION: This notice is relevant to the Puget Sound chinook salmon (Oncorhynchus tshawytscha) Evolutionarily Significant Unit (ESU).

Background

The Washington Department of Fish and Wildlife and the Puget Sound Treaty Tribes have provided a jointly developed RMP for Puget Sound chinook. The RMP encompasses fisheries within the range of the Puget Sound chinook salmon ESU, as well as the western Strait of Juan de Fuca, which is not within the ESU. Harvest objectives specified in the RMP account for fisheries-related mortality throughout the migratory range of Puget Sound chinook from Oregon and Washington to Southeast Alaska. The RMP also includes implementation, monitoring and evaluation procedures designed to ensure fisheries are consistent with these objectives.

As required by § 223.203 (b)(6) of the ESA 4(d) rule, the Secretary must determine pursuant to 50 CFR 223.209 and pursuant to the government to government processes therein whether the RMP for Puget Sound chinook would appreciably reduce the likelihood of survival and recovery of the Puget Sound chinook and other affected threatened ESUs. The Secretary must take comments on how the RMP addresses the criteria in § 223.203(b)(4) in making that determination.

Authority

Under section 4 of the ESA, the Secretary is required to adopt such regulations as he deems necessary and advisable for the conservation of the species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with a RMP developed jointly by the State of Washington and the Tribes (joint plan) and determined by the Secretary to be in accordance with the salmon and steelhead 4(d) rule (65 FR 42422, July 10, 2000).

Dated: February 27, 2001.
Phil Williams,
Acting Chief, Endangered Species Division, Office of Protected Resources, National Marine Fisheries Service.

[FR Doc. 01-5259 Filed 3-2-01; 8:45 am]

BILLING CODE 3510-22-S